DEPARTMENT OF HOUSING AND URBAN DEVELOPMENT

[Docket No. FR-5601-N-42]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; GSA: Mr. Flavio Peres, General Services Administration, Office of Real Property Utilization and Disposal, 1800 F Street NW., Room 7040 Washington, DC 20405, (202) 501-0084; Interior: Mr. Michael Wright, Acquisition & Property Management, Department of the Interior, 1801 Pennsylvania Ave. NW., 4th Floor, Washington, DC 20006: 202-254-5522; Navy: Mr. Steve Matteo, Department of the Navy, Asset Management Division, Naval Facilities Engineering Command, Washington Navy Yard, 1330 Patterson Ave. SW., Suite 1000, Washington, DC 20374 (This is not toll-free numbers).

Dated: October 18, 2012.
Ann Marie Oliva,
Deputy Assistant Secretary for Special Needs (Acting).

Title V, Federal Surplus Property Program Federal Register Report for 10/26/2012

Suitable/Available Properties

Building

Alabama

Tract 101-02; Trailer

1616 Chappie James Ave.

Tuskegee AL 36083

Landholding Agency: Interior

Property Number: 61201240008

Status: Unutilized

Comments: Off-site removal only; 2,500 sf.; office; 12 mons. vacant; mold/fungus; severe water damage; deteriorating roof; secured area; contact Interior for info. on accessibility/removal

Arkansas

Silver Hill Rock House

Buffalo Nat'l River

St. Joe AR 72875

Landholding Agency: Interior

Property Number: 61201240010

Status: Excess

Directions: Tract 06-126-1

Comments: Off-site removal only; 872 sf.; residential; 6 yrs. vacant; severe termite damage; removal may be extremely difficult due to the unsound structure

Iowa

NRCS-USDA Unit

1820 E. Euclid Ave.

Des Moines IA 50313

Landholding Agency: GSA

Property Number: 54201240004

Status: Excess

GSA Number: 7-A-IA-0511-AA

Directions: Includes two Bldgs.; masonry 2,048 sf. +/-, frame 5,513 sf. +/-

Comments: Bldgs. sits on .83 acres; fair conditions; equipment & material storage; driveway access easement w/adjacent property owner

Missouri

Crane Radio Station

Elm Street Rd.

Marionville MO 65633

Landholding Agency: GSA

Property Number: 54201240003

Status: Excess

GSA Number: 7-B-MO-0698

Comments: 213 sf.; sits on 4.65 acres; storage

North Carolina

Tract 29666

209 Water Plant Rd.

Ocracoke NC 27960

Landholding Agency: Interior

Property Number: 61201240001

Status: Unutilized

Directions: Cape Hatteras Nat'l Seashore

Comments: Off-site removal only; 1180 sf.; 12 mons. vacant; residential; extensive mold; holes in interior/exterior; rodent infested; leaky roof; secured area; contact Interior for info. on accessibility/removal

Tract 29665

199 Water Plant Rd.

Ocracoke NC 27960

Landholding Agency: Interior

Property Number: 61201240002

Status: Unutilized

Comments: Off-site removal; 1180 sf.; 12 mons. vacant; residential; extensive mold; holes in interior/exterior; rodent infested; leaky roof; secured area; contact Interior for info. on accessibility/removal

Tract 29664

189 Water Plant Rd.

Ocracoke NC 27960

Landholding Agency: Interior

Property Number: 61201240003

Status: Unutilized

Directions: Cape Hatteras Nat'l Seashore

Comments: Off-site removal only; 1180 sf.; 12 mons. vacant; residential; extensive mold; holes in interior/exterior; rodent infested; leaky roof; secured area; contact Interior for info. on accessibility/removal

Tract 29960

221 Water Plant Rd.

Ocracoke NC 27960

Landholding Agency: Interior

Property Number: 61201240004

Status: Unutilized

Directions: Cape Hatteras Nat'l Seashore

Comments: Off-site removal only; 1180 sf.; 12 mons. vacant; residential; extensive mold; holes in interior/exterior; rodent infested; leaky roof; secured area; contact Interior for info. on accessibility/removal

Tract 28757

46500 Light House Rd.

Buxton NC 27960

Landholding Agency: Interior

Property Number: 61201240005

Status: Unutilized

Directions: Cape Hatteras Nat'l Seashore

Comments: Off-site removal only; 741 sf.; storage; 120 mons. vacant; mold damage; holes in interior/exterior; rodent infested; leaky roof; secured area; contact Interior for info. on accessibility/removal

Tract 59930

214 Dare Ave.

Manteo NC 27954

Landholding Agency: Interior

Property Number: 61201240006

Status: Unutilized

Comments: Off-site removal only; 1161 sf.; residential; 12 mons. vacant; mold damage; holes in interior/exterior; rodent infested; leaky roof; erosion; secured area; contact Interior for info. on accessibility/removal

Tract 59929

216 Dare Ave.

Manteo NC 27954

Landholding Agency: Interior

Property Number: 61201240007

Status: Unutilized

Comments: Off-site removal only; 839 sf.; residential; 24 mons. vacant; mold damage; holes in interior/exterior; rodent infested; leaky roof; secured area; contact Interior for info. on accessibility/removal

Oklahoma

Lamar Radio Station

S. of County Rd.

Lamar OK 74850

Landholding Agency: GSA

Property Number: 54201240002

Status: Excess

GSA Number: 7-B-OK-0581

Comments: 152 sf.; sits on 4.65 acres; storage

Pennsylvania

Tract 101-30

4501 County Line Rd.

King of Prussia PA 19406

Landholding Agency: Interior

Property Number: 61201240009

Status: Excess

Comments: Off-site removal only; 500 sf.; 7yrs. vacant; extensive deterioration; hillside is used as stabilization; removal may be extremely difficult- may destroy property

Texas

6 Bldgs.

901 South Glenbrook

Garland TX 75040

Landholding Agency: Air Force

Property Number: 18201240001

Status: Unutilized

Directions: 1,3,4,5,7&8

Comments: Off-site removal only; 42,501 sf.; office & shop; 24 mons. vacant; repairs needed; contamination; needs remediation; secured area; contact AF for info. on accessibility/removal

Veterans Post Office

1300 Mutamoros St.

Laredo TX 78040

Landholding Agency: GSA

Property Number: 54201240001

Status: Excess

GSA Number: 7-G-TX-1055-AA

Comments: 8,498 sf.; sits on 1.2 acres; office; 105 yrs-old; historic preservation restrictions on bldg. & ground

Unsuitable Properties

Building

California

Facilities 01085 & 01086

1 Admin. Circle

China Lake CA 93555

Landholding Agency: Navy

Property Number: 77201240002

Status: Unutilized

Comments: Located w/in secured boundary of a military installation; public access denied; no alternative method to gain access w/out compromising nat'l security

Reasons: Secured Area

Washington

Bldg. 7029

Snook Rd.—Bangor

Naval Base Kitsap WA

Landholding Agency: Navy

Property Number: 77201240001

Status: Excess

Comments: Located w/in secured area where public access is denied & no alternative method to gain access w/out compromising nat'l security

Reasons: Secured Area

[FR Doc. 2012-26066 Filed 10-25-12; 8:45 am]

BILLING CODE 4210-67-P